DEPARTMENT OF AGRICULTURE

Commodity Credit Corporation

Natural Resources Conservation Service

Farmland Protection Program

AGENCY: Commodity Credit Corporation, Natural Resources Conservation Service, Department of Agriculture (USDA).

ACTION: Notice of request for proposals.

SUMMARY: Section 388 of the Federal Agriculture Improvement and Reform Act of 1996 established the Farmland Protection Program (FPP). The Secretary of Agriculture delegated the authority for FPP to the Chief of the Natural Resources Conservation Service (NRCS), who is a vice president of the Commodity Credit Corporation (CCC). The Agricultural Risk Protection Act of 2000 provides $10 million in financial and technical assistance for the purposes described in FPP in fiscal year 2001. The CCC requests proposals from federally recognized Indian tribes, States, units of local government, and non-governmental organizations to cooperate in the acquisition of conservation easements or other interests in prime, unique, or other productive soil that is subject to a pending offer, for the purpose of limiting conversion to nonagricultural uses of that land. An additional $20 million has also been provided for FPP in accordance with the Conference Report on H.R. 4577, Department of Labor, Health, and Human Services, and Education and Related Agencies Appropriations (House of Representatives—December 15, 2000). This amount excludes proposals from non-governmental organizations and is dedicated only to proposals from federally recognized Indian tribes, States, and units of local government. USDA has designated up to $5 million to be provided to State agencies that have a long and effective history of purchasing development rights on farmland.

DATES: Proposals must be received in the NRCS State Office within 45 days of the date of this notice.

ADDRESSES: Written proposals should be sent to the appropriate NRCS State conservationist, Natural Resources Conservation Service, USDA. The telephone numbers and addresses of the NRCS State conservationists are attached in the appendix of this notice.

FOR FURTHER INFORMATION CONTACT: Douglas J. Lawrence, NRCS; phone: (202) 720-1510; fax: (202) 690-6473; or e-mail: doug.lawrence@usda.gov; Subject: 2001 FPP.

SUPPLEMENTARY INFORMATION:

Background

Urban sprawl continues to threaten the Nation's farmland. Social and economic changes over the past three decades have influenced the rate at which land is converted to non-agricultural uses. Population growth, demographic changes, preferences for larger lots, inexpensive fuel costs, expansion of transportation systems, and economic prosperity have contributed to increases in agricultural land conversion rates.

The amount of farmland lost to development is not the only significant concern. Another cause for concern is the quality and pattern of farmland being converted. In most States, prime farmland is being converted at two to four times the rate of other, less-productive agricultural land.

There continues to be an important national interest in the protection of farmland. Once developed, productive farmland with rich topsoil is effectively lost forever, placing future food security for the Nation at risk. Land use devoted to agriculture provides an important contribution to environmental quality, history, and scenic beauty.

Availability of Funding

Effective on the publication date of this notice, the CCC announces the availability, until September 30, 2001, of $30 million for FPP. The CCC, acting through the appropriate NRCS State conservationist, must receive proposals for participation within 45 days of the date of this notice. State, tribal, and local governmental entities may apply for money under funding sources; however, non-governmental organizations are only eligible for the original $10 million provided by the Agricultural Risk Protection Act of 2000.

Selection will be based on the criteria established in this notice. Selected eligible entities may receive no more than 50 percent of the purchase price for each conservation easement, not to exceed the fair market value of the interest to be purchased. Pending offers by an eligible entity must be for the acquisition of an easement for a minimum duration of 30 years.

Definitions

Chief means the Chief of NRCS, USDA.

Eligible entities means federally recognized Indian tribes, States, units of local government, and non-governmental organizations that have pending offers for the acquisition of conservation easements for the purposes of protecting the agricultural use. Non-governmental organizations are only eligible for the $10 million originally authorized by the Agricultural Risk Protection Act of 2000.

Field Office Technical Guide means the official NRCS guidelines, criteria, and standards for planning and applying conservation treatments and conservation management systems. It contains detailed information on the conservation of soil, water, air, plant, and animal resources applicable to the local area for which it is prepared.

Land Evaluation and Site Assessment (LESA) means the Federal land site evaluation system used to rank land, based on soil potential for agriculture, as well as social and economic factors, such as location, access to market, and adjacent land use.

Non-governmental organization, as defined in section 211(a) of the Agricultural Risk Protection Act of 2000, is any organization that:

(1) Is organized for, and at all times since the formation of the organization, has been operated principally for one or more of the conservation purposes specified in clause (i), (ii), or (iii) of section 170(h)(4)(A) of the Internal Revenue Code of 1986;

(2) Is an organization described in section 501(c)(3) of that code that is exempt from taxation under 501(a) of that code;

(3) Is described in section 509(a)(2) of that code; or

(4) Is described in section 509(a)(3) of that code and is controlled by an organization described in section 509(a)(2) of that code.

Prime and unique farmland are defined separately, as follows:

• Prime farmland is land that has the best combination of physical and chemical characteristics for producing food, feed, fiber, forage, oilseed, and other agricultural crops with minimum inputs of fuel, fertilizer, pesticides, and labor, without intolerable soil erosion, as determined by the Secretary.

• Unique farmland is land other than prime farmland that is used for the production of specific high-value food and fiber crops, as determined by the Secretary. It has the special combination of soil quality, location, growing season, and moisture supply needed to economically produce sustained high quality or high yields of specific crops when treated and managed according to acceptable farming methods. Examples of such crops include citrus, tree nuts, olives, cranberries, fruits, and vegetables. Additional information on the definition of prime, unique, or other productive soil can be found in section 1540(c)(1) of the Farmland Protection Policy Act (Public Law 97-98) (7 U.S.C. 4201, et seq.).

Purchase price means the fair market value ascertained through standard real property appraisal methods. Fair market value is defined as the price at which a willing seller and a willing buyer will trade.

State conservationist means the NRCS employee authorized to direct and supervise NRCS activities in a State or the Caribbean Area (Puerto Rico and the Virgin Islands).

Overview of the Farmland Protection Program

The CCC will accept proposals submitted to the NRCS State offices from eligible entities, including federally recognized Indian tribes, States, units of local government, and non-governmental organizations that have pending offers for the acquisition of conservation easements for the purposes of protecting the agricultural use of the land. Reference information regarding the FPP can be found in the “Catalog of Federal Domestic Assistance #10.913.”

All proposals must be submitted to the appropriate NRCS State conservationist within 45 days of the date of this notice. The NRCS State conservationist may consult with the State Technical Committee (established pursuant to 16 U.S.C. 3861) to evaluate the merits of the proposals.

The NRCS State conservationist will review and evaluate the proposals based on State, local program, tribal, or non-governmental organization eligibility, land eligibility, and the extent to which the proposal will protect prime, unique, or other productive soil. Proposals must provide adequate proof of a pending offer for the subject land. Proposals submitted directly to the NRCS national office will not be accepted and will be returned to the submitting entity.

The NRCS State conservationist will transmit a cover letter with a list of the ranked proposals and properties that meet the criteria established in this notice to the NRCS national office in Washington, DC, where the final selection of proposals will occur. Once selected, eligible entities must work with the appropriate NRCS State conservationist to finalize and sign cooperative agreements, incorporating all necessary FPP terms.

The conveyance document used by the eligible entity must be reviewed and approved by the NRCS national office before being recorded. Since title to the easement is held by an entity other than the United States, the conveyance document must contain a clause that all rights conveyed by the landowner under the document will become vested in the United States should the federally recognized Indian tribe, State, local government entity, or non-governmental organization (i.e., the grantee(s)) abandon or attempt to terminate the conservation easement. As a condition for participation, all land in the easement shall be included in a conservation plan developed and implemented according to the NRCS Field Office Technical Guide.

Organization and Land Eligibility Selection Criteria

To be eligible, a federally recognized Indian tribe, State, unit of local government, or non-governmental organization must have a farmland protection program that purchases agricultural conservation easements for the purpose of protecting prime, unique, or other productive soil by limiting conversion to nonagricultural uses. In addition, applicants must provide information in their proposals demonstrating their ability, both legally and programmatically, to acquire conservation easements for the purpose of limiting conversion to nonagricultural uses.

The following land, if subject to a pending offer by an eligible entity, is eligible for enrollment in the FPP:

(1) Land with prime, unique, or statewide and locally important farmland and

(2) Other incidental land that would not otherwise be eligible, but when considered as part of a pending offer, NRCS determines that inclusion of such land would significantly augment protection of the associated farmland.

Proposal Criteria

Proposals must contain the information set forth below in order to receive consideration:

1. Organization and programs: Eligible entities must describe their farmland protection program and their record of acquiring and holding permanent agricultural land protection easements or other interests. Information provided in the proposal should:

(a) Demonstrate a commitment to long-term conservation of agricultural lands through the use of voluntary easements or other legal devices to protect farmland from conversion to nonagricultural uses;

(b) Demonstrate a capability to acquire, manage, and enforce easements and other interests in land;

(c) Demonstrate the availability of funds equal to at least 50 percent of the projected easement purchase price for the proposed land parcel(s); and

(d) Have pending offer(s). A pending offer is a bid, contract, or option extended to a landowner by an eligible entity to acquire a conservation easement or other interests in land to limit nonagricultural uses of the land before the legal title to these rights has been conveyed. The pending offers must be for the primary purpose of protecting topsoil by limiting conversion to nonagricultural uses.

2. To ensure that the maximum efficiency of dollars is obtained, USDA is designating a reserve, not to exceed $5 million, to States that have a long history of purchasing development rights and that have a developed infrastructure for protection of farmland, along with a strong program for State funding of such efforts. To be eligible, State agencies must meet the following criteria, in addition to the criteria set forth above:

(a) Possess both a high public and private investment per capita in the purchase of development rights on working farms over the last 10 years;

(b) Have provided on-going appropriations for the purchase of development rights over the last 10 years;

(c) Have established partnerships with private nonprofit land trusts; and

(d) Are located in States where the average cost of purchasing development rights, for all entities involved, is below $1,000 per acre.

3. Lands to be acquired: The proposal should describe the lands to be acquired with assistance from FPP. Specifically, the proposal should include:

(a) A map showing the proposed protected area(s);

(b) The amount and source of funds currently available for each easement (or other interest) to be acquired;

(c) The criteria used to set the acquisition priorities; and

(d) A detailed description of the land parcel(s), including:

(i) The priority of the offer;

(ii) The name(s) of the landowner(s);

(iii)The address and location map(s) of the parcel(s);

(iv) The size of the parcel in acres;

(v) The acres of the prime, unique, or statewide and locally important soil in the parcels. Farmland that is of statewide or local importance is used for the production of food, feed, fiber, forage, or oilseed crops. The appropriate State or local government agency(s) determines statewide or locally important farmland with concurrence from the Secretary.

(vi) A map showing the location of other protected parcels in relation to the land parcels proposed to be protected;

(vii) Estimated cost of the easement(s): The consideration to be paid to any landowners for the conveyance of any lands or interests in lands shall be no more than the purchase price of the land or interests conveyed, as determined by an appraiser licensed in the State. All parcels nominated for FPP assistance shall be appraised and all appraisals shall conform to the Uniform Appraisal Standards for Federal Land Acquisitions (Interagency Land Acquisition Conference, 1992).

(viii) Type of instrument (e.g., easement deed) used to prevent agricultural land conversion;

(ix) Indication of the accessibility to markets;

(x) Indication of an existing agricultural infrastructure, on- and off-farm, and other support system(s);

(xi) Statement regarding the level of threat from urban development;

(xii) Other factors from an evaluation and assessment system used to set priorities. If the eligible entity used the LESA system or a similar land evaluation system as its tool, include the value(s) (i.e. score(s)) for the land parcels slated for acquisition; and

(xiii) Other information that may be relevant.

In submitting proposals, entities should indicate on the cover of the proposal whether they are a nongovernmental organization, local, Tribal or State agency. In the case of a State agency, if the State is applying for funds that are reserved for State agencies with a long history of farmland protection, State agencies must include documentation to support the criteria outlined in section 2 under Proposal Criteria.

NRCS Role

Once the appropriate NRCS State office has assessed organization eligibility and the merits of each proposal, the NRCS State conservationist shall determine whether the farmland is eligible for financial assistance from FPP. NRCS will use the LESA system or a similar land evaluation system to evaluate the land and rank parcels.

Ranking Considerations

NRCS will only consider enrolling eligible land in the program that is of sufficient size and has boundaries that allow for efficient management of the area. The land must have access to markets for its products and an infrastructure appropriate for agricultural production. NRCS will not enroll land in FPP that is owned in fee title by an agency of the United States, or land that is already subject to an easement or deed restriction that limits the conversion of the land to nonagricultural use. NRCS will not enroll otherwise eligible lands if NRCS determines that the protection provided by the FPP would not be effective because of on-site or off-site conditions. For example, a proposal may nominate an agricultural parcel surrounded by a developed area. In addition, NRCS may learn that the local government's long-term plan or zoning regulations earmark the parcel for future development. In light of the parcel's isolation from other farms and the local government's position, expressed in either its land use plan or zoning, NRCS may determine that the use of FPP funds is not appropriate.

NRCS will place a priority on acquiring easements or other interests in lands that provide permanent protection from conversion to nonagricultural use. NRCS will place a higher priority on easements acquired by entities that have extensive experience in managing easements. NRCS will place a higher priority on lands and locations that help create a large tract of protected area for viable agricultural production. NRCS will place a higher priority on lands and locations that link to other Federal, tribal, State, local, or non-governmental organization efforts with complementary farmland protection objectives. NRCS may place a higher priority on lands that provide special social, economic, and environmental benefits to the region. A higher priority may be given to certain geographic regions where the enrollment of particular lands may help achieve national, State, and regional goals and objectives, or enhance existing government or private conservation projects.

Cooperative Agreements

The CCC will use a cooperative agreement with a selected eligible entity as the mechanism for participation in FPP. The cooperative agreement will address, among other things:

(1) The interests in land to be acquired, including the form of the easements to be used and terms and conditions;

(2) The management and enforcement of the rights acquired;

(3) The role of NRCS;

(4) The responsibilities of the easement manager on lands acquired with the assistance of FPP; and

(5) Other requirements deemed necessary by the CCC to protect the interests of the United States.

The cooperative agreement will also include an attachment listing the pending offers accepted in FPP, landowners' names, addresses, location map(s), and other relevant information.

Signed in Washington, DC, on January 16, 2001.
Danny D. Sells,
Deputy Vice President, Commodity Credit Corporation and Associate Chief, Natural Resources Conservation Service.

NRCS State Conservationists

Alabama: Robert N. Jones, 3381 Skyway Drive, Post Office Box 311, Auburn, Alabama 36830; phone: (334) 887-4500; fax: (334) 887-4552; e-mail: robert.jones@al.usda.gov

Alaska: Charles W. Bell, Atrium Building, Suite 100, 800 West Evergreen, Atrium Building, Suite 100, Palmer, Alaska 99645-6539; phone: (907) 761-7760; fax: (907) 761-7790; e-mail: cbell@ak.nrcs.usda.gov

Arizona: Michael Somerville, Suite 800, 3003 North Central Avenue, Phoenix, Arizona 85012-2945; phone: (602) 280-8810; fax: (602) 280-8809 or 8805; e-mail: msomervi@az.nrcs.usda.gov

Arkansas: Kalven L. Trice, Federal Building, Room 3416, 700 West Capitol Avenue, Little Rock, Arkansas 72201-3228; phone: (501) 301-3100; fax: (501) 301-3194; e-mail: kalven.trice@ar.usda.gov

California: Jeffrey R. Vonk, Suite 4164, 430 G Street, Davis, California 95616-4164; phone: (530) 792-5600; fax: (530) 792-5790; e-mail: jeff.vonk@ca.usda.gov

Colorado: Stephen F. Black, Room E200C, 655 Parfet Street, Lakewood, Colorado 80215-5517; phone: (303) 236-2886; fax: (303) 236-2896; e-mail: stephen.black@co.usda.gov

Connecticut: Margo L. Wallace, 344 Merrow Road, Tolland, Connecticut 06084; phone: (860) 872-4011; fax: (860) 871-4054; e-mail: margo.wallace@ct.usda.gov

Delaware: Elesa K. Cottrell, Suite 101, 1203 College Park Drive, Dover, Delaware 19904-8713; phone: (302) 678-4160; fax: (302) 678-0843; e-mail: ecottrell@de.usda.gov

Florida: T. Niles Glasgow, 2614 NW. 43rd Street, Gainesville, Florida 32606-6611, or Post Office Box 141510, Gainesville, Florida 32614; phone: (352) 338-9500; fax: (352) 338-9574; e-mail: niles.glasgow@fl.usda.gov

Georgia: Earl Cosby, Federal Building, Stop 200, 355 East Hancock Avenue, Athens, Georgia 30601-2769; phone: (706) 546-2272; fax: (706) 546-2120; e-mail: earl.cosby@ga.usda.gov

Guam: Lillian V. Woods, Director, Pacific Basin Area, Suite 301, FHB Building, 400 Route 8, Maite, Guam 96927; phone: (671) 472-7490; fax: (671) 472-7288; e-mail: lillian.woods@gu.usda.gov

Hawaii: Kenneth M. Kaneshiro, Room 4-118, 300 Ala Moana Boulevard, Post Office Box 50004, Honolulu, Hawaii 96850-0002; phone: (808) 541-2600; fax: (808) 541-1335; e-mail: kkaneshiro@hi.nrcs.usda.gov

Idaho: Richard W. Sims, Suite C, 9173 West Barnes Drive, Boise, Idaho 83709; phone: (208) 378-5700; fax: (208) 378-5735; e-mail: richard.sims@id.usda.gov

Illinois: William J. Gradle, 1902 Fox Drive, Champaign, Illinois 61820-7335; phone: (217) 353-6600; fax: (217) 353-6676; e-mail: william.gradle@il.usda.gov

Indiana: Jane E. Hardisty, 6013 Lakeside Boulevard, Indianapolis, Indiana 46278-2933; phone: (317) 290-3200; fax: (317) 290-3225; e-mail: jane.hardisty@in.usda.gov

Iowa: Leroy Brown, 693 Federal Building, Suite 693, 210 Walnut Street, Des Moines, Iowa 50309-2180; phone: (515) 284-6655; fax: (515) 284-4394; e-mail: leroy.brown@ia.usda.gov

Kansas: Tomas M. Dominguez, 760 South Broadway, Salina, Kansas 67401-4642; phone: (785) 823-4565; fax: (785) 823-4540; e-mail: tomas.dominguez@ks.usda.gov

Kentucky: David G. Sawyer, Suite 110, 771 Corporate Drive, Lexington, Kentucky 40503-5479; phone: (606) 224-7350; fax: (606) 224-7399; e-mail: dsawyer@ky.usda.gov

Louisiana: Donald W. Gohmert, 3737 Government Street, Alexandria, Louisiana 71302; phone: (318) 473-7751; fax: (318) 473-7626; e-mail: don.gohmert@la.usda.gov

Maine: Russell A. Collett, Suite #3, 967 Illinois Avenue, Bangor, Maine 04401; phone: (207) 990-9100, ext. #3; fax: (207) 990-9599; e-mail: russ.collett@me.usda.gov

Maryland: David P. Doss, John Hanson Business Center, Suite 301, 339 Busch's Frontage Road, Annapolis, Maryland 21401-5534; phone: (410) 757-0861; fax: (410) 757-0687; e-mail: david.doss@md.usda.gov

Massachusetts: Cecil B. Currin, 451 West Street, Amherst, Massachusetts 01002-2995; phone: (413) 253-4351; fax: (413) 253-4375; e-mail: ccurrin@ma.usda.gov

Michigan: Ronald C. Williams, Suite 250, 3001 Coolidge Road, East Lansing, Michigan 48823-6350; phone: (517) 324-5270; fax: (517) 324-5171; e-mail: ron.williams@mi.usda.gov

Minnesota: William Hunt, Suite 600, 375 Jackson Street, St. Paul, Minnesota 55101-1854; phone: (651) 602-7856; fax: (651) 602-7913 or 7914; e-mail: william.hunt@mn.usda.gov

Mississippi: Homer L. Wilkes, Suite 1321, Federal Building, 100 West Capitol Street, Jackson, Mississippi 39269-1399; phone: (601) 965-5205; fax: (601) 965-4940; e-mail: hwilkes@ms.nrcs.usda.gov

Missouri: Roger A. Hansen, Parkade Center, Suite 250, 601 Business Loop 70, West Columbia, Missouri 65203-2546; phone: (573) 876-0901; fax: (573) 876-0913; e-mail: roger.hansen@mo.usda.gov

Montana: Shirley Gammon, Federal Building, Room 443, 10 East Babcock Street, Bozeman, Montana 59715-4704; phone: (406) 587-6811; fax: (406) 587-6761, e-mail: shirley.gammon@mt.nrcs.usda.gov

Nebraska: Stephen K. Chick, Federal Building, Room 152, 100 Centennial Mall, North Lincoln, Nebraska 68508-3866; phone: (402) 437-5300; fax: (402) 437-5327; e-mail: steve.chick@ne.usda.gov

Nevada: Nicholas N. Pearson, Building F, Suite 201, 5301 Longley Lane, Reno, Nevada 89511-1805; phone: (775) 784-5863; fax: (775) 784-5939; e-mail: npearson@nv.usda.gov

New Hampshire: Richard D. Babcock, Federal Building, 2 Madbury Road, Durham, New Hampshire 03824-2043; phone: (603) 868-7581; fax: (603) 868-5301; e-mail: rbabcock@nh.nrcs.usda.gov

New Jersey: Joseph R. DelVecchio, 1370 Hamilton Street, Somerset, New Jersey 08873-3157; phone: (732) 246-1171; fax: (732) 246-2358; e-mail: jdelvecchio@nj.nrcs.usda.gov

New Mexico: Rosendo Trevino III, Suite 305, 6200 Jefferson Street, NE., Albuquerque, New Mexico 87109-3734; phone: (505) 761-4400; fax: (505) 761-4462; e-mail: rosendo.trevino@nm.usda.gov

New York: Wayne Maresch, Suite 354, 441 South Salina Street, Syracuse, New York 13202-2450; phone: (315) 477-6504; fax: (315) 477-6550; e-mail: wayne.maresch@ny.usda.gov

North Carolina: Mary K. Combs, Suite 205, 4405 Bland Road, Raleigh, North Carolina 27609-6293; phone: (919) 873-2101; fax: (919) 873-2156; e-mail: mary.combs@nc.usda.gov

North Dakota: Thomas E. Jewett, Room 278, 220 E. Rosser Avenue, Post Office Box 1458, Bismarck, North Dakota 58502-1458; phone: (701) 530-2000; fax: (701) 530-2110; e-mail: tom.jewett@nd.usda.gov

Ohio: J. Kevin Brown, Room 522, 200 North High Street, Columbus, Ohio 43215-2478; phone: (614) 255-2472; fax: (614) 255-2548; e-mail: kevin.brown@oh.usda.gov

Oklahoma: M. Darrel Dominick, USDA Agri-Center Building, Suite 203, 100 USDA, Stillwater, Oklahoma 74074-2655; phone: (405) 742-1204; fax: (405) 742-1126; e-mail: darrel.dominick@ok.usda.gov

Oregon: Robert Graham, Suite 1300, 101 SW Main Street, Portland, Oregon 97204-3221; phone: (503) 414-3201; fax: (503) 414-3277; e-mail: bob.graham@or.usda.gov

Pennsylvania: Janet L. Oertly, Suite 340, 1 Credit Union Place, Harrisburg, Pennsylvania 17110-2993; phone: (717) 237-2202; fax: (717) 237-2238; e-mail: janet.oertly@pa.usda.gov

Puerto Rico: Juan A. Martinez, Director, Caribbean Area, IBM Building, Suite 604, 654 Munoz Rivera Avenue, Hato Rey, Puerto Rico 00918-4123; phone: (787) 766-5206; fax: (787) 766-5987; e-mail: juan.martinez@pr.usda.gov

Rhode Island: Judith Doerner, Suite 46, 60 Quaker Lane, Warwick, Rhode Island 02886-0111; phone: (401) 828-1300; fax: (401) 828-0433; e-mail: judy.doerner@ri.usda.gov

South Carolina: Walter W. Douglas, Strom Thurmond Federal Building, Room 950, 1835 Assembly Street, Columbia, South Carolina 29201-2489; phone: (803) 253-3935; fax: (803) 253-3670; e-mail: walt.douglas@sc.usda.gov

South Dakota: Dean F. Fisher, Federal Building, Room 203, 200 Fourth Street, SW., Huron, South Dakota 57350-2475; phone: (605) 352-1200; fax: (605) 352-1288; e-mail: dean.fisher@sd.usda.gov

Tennessee: James W. Ford, 675 U.S. Courthouse, 801 Broadway, Nashville, Tennessee 37203-3878; phone: (615) 277-2531; fax: (615) 277-2578; e-mail: jford@tn.nrcs.usda.gov

Texas: John P. Burt, W.R. Poage Building, 101 South Main Street, Temple, Texas 76501-7682; phone: (254) 742-9800; fax: (254) 742-9819; e-mail: jburt@tx.usda.gov

Utah: Phillip J. Nelson, W.F. Bennett Federal Building, Room 4402, 125 South State Street, Salt Lake City, Utah 84138, Post Office Box 11350, Salt Lake City, Utah 84147-0350; phone: (801) 524-4550; fax: (801) 524-4403; e-mail: skip.nelson@ut.usda.gov

Vermont: John C. Titchner, 69 Union Street, Winooski, Vermont 05404-1999; phone: (802) 951-6795; fax: (802) 951-6327; e-mail: john.titchner@vt.usda.gov

Virginia: M. Denise Doetzer, Culpeper Building, Suite 209, 1606 Santa Rosa Road, Richmond, Virginia 23229-5014; phone: (804) 287-1691; fax: (804) 287-1737; e-mail: denise.doetzer@va.usda.gov

Washington: Leonard Jordan, Rock Pointe Tower II, Suite 450, W. 316 Boone Avenue, Spokane, Washington 99201-2348; phone: (509) 323-2900; fax: (509) 323-2909; e-mail: leonard.jordan@wa.usda.gov

West Virginia: William J. Hartman, Room 301, 75 High Street, Morgantown, West Virginia 26505; phone: (304) 284-7540; fax: (304) 284-4839; e-mail: bill.hartman@wv.usda.gov

Wisconsin: Patricia S. Leavenworth, Suite 200, 6515 Watts Road, Madison, Wisconsin 53719-2726; phone: (608) 276-8732; fax: (608) 276-5890; e-mail: pat.leavenworth@wi.usda.gov

Wyoming: Lincoln E. Burton, Federal Building, Room 3124, 100 East B Street, Casper, Wyoming 82601-1911; phone: (307) 261-6453; fax: (307) 261-6490; e-mail: ed.burton@wy.usda.gov

[FR Doc. 01-1759 Filed 1-19-01; 8:45 am]

BILLING CODE 3410-16-U